DEPARTMENT OF HEALTH AND HUMAN SERVICES

Centers for Disease Control and Prevention

[30Day-24-23DP]

Agency Forms Undergoing Paperwork Reduction Act Review

In accordance with the Paperwork Reduction Act of 1995, the Centers for Disease Control and Prevention (CDC) has submitted the information collection request titled “Public Health Law Fellowship (PHL Fellowship) Program: Assessment of Quality and Value” to the Office of Management and Budget (OMB) for review and approval. CDC previously published a “Proposed Data Collection Submitted for Public Comment and Recommendations” notice on March 23, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Public Health Law Fellowship (PHL Fellowship) Program: Assessment of Quality and Value—New—National Center for STLT Public Health Infrastructure and Workforce (NCSTLTPHIW), Centers for Disease Control and Prevention (CDC).

Background and Brief Description

The mission of the Department of Health and Human Services (HHS) is to enhance the health and well-being of all Americans. As part of HHS, the Centers for Disease Control and Prevention (CDC) works to protect America from health, safety, and security threats, both foreign and in the U.S. CDC strives to fulfill this mission, in part, through a competent and capable public health workforce. One mechanism to developing the public health workforce is through training programs like the Public Health Law Fellowship Program (PHL Fellowship).

The mission of the PHL Fellowship is to train and provide experiential learning to current students and early career professionals in public health law and policy. The PHL Fellowship targets current graduate students and law students, as well as recent graduates of graduate and law programs with a demonstrated interest in public health law. It is the goal of this fellowship that following participation in the program, alumni will seek employment within the public health law system (i.e., Federal, State, Tribal, local, or Territorial health agencies, or non-governmental organizations), focusing on health equity and/or emergency response.

This fellowship was created pursuant to American Rescue Plan funding to expand on the Public Health Law Program's intern/extern program. There were no prior efforts to systematically evaluate the intern/extern program necessitating the creation of a systematic plan for administering, monitoring, and evaluating the PHL Fellowship. Evaluation priorities focus on continuously learning about program processes and activities to improve the program's quality and documenting program outcomes to demonstrate impact and inform decision-making about future program direction. The purpose of this data collection is to inform these evaluation priorities through the collection of information from host site supervisors (n=40), fellowship participants (current cohort of fellows in a given year, n=70), and alumni (n=70). These data collections will be instrumental in helping CDC staff learn about these important stakeholder perspectives and will yield results that describe quality, impact, and value. Data will also inform program improvements such as refining the host site selection and matching process. Collection of this information moving forward will continue to meet these purposes and allow for longitudinal assessment of the PHL Fellowship, giving program leaders opportunities to see how this fellowship influences alumni career progression and contributions to public health over time.

OMB approval is requested for three years. Participation in the PHL Fellowship Program is voluntary but participation in data collection is required. There are no costs to respondents other than their time. The total estimated annualized burden is 149 hours.

Estimated Annualized Burden Hours
Type of respondent | Name | Number of respondents | Number of responses per respondent | Average burden per response (in hours)
PHL Fellowship Applicants | PHL Fellow Application | 200 | 1 | 7/60
PHL Fellowship Participants | PHL Fellow Welcome Survey | 70 | 1 | 6/60
PHL Fellowship Participants | PHL Fellow End-of-Program Survey | 70 | 1 | 7/60
PHL Fellowship Participants | PHL Fellow Focus Group | 30 | 1 | 60/60
PHL Fellowship Alumni | PHL Fellowship Alumni Survey | 70 | 1 | 10/60
PHL Fellowship Host Site Applicants | PHL Fellowship Host Site Application | 50 | 1 | 21/60
PHL Fellowship Host Site Supervisors | PHL Fellowship Host Site Welcome Survey | 40 | 1 | 5/60
PHL Fellowship Host Site Supervisors | PHL Fellowship Host Site End-of-Program Survey | 40 | 1 | 12/60
PHL Fellowship Host Site Supervisors | PHL Fellowship Host Site Supervisor Interview | 40 | 1 | 60/60

Jeffrey M. Zirger,
Lead, Information Collection Review Office, Office of Public Health Ethics and Regulations, Office of Science, Centers for Disease Control and Prevention.

[FR Doc. 2023-22272 Filed 10-5-23; 8:45 am]

BILLING CODE 4163-18-P